DEPARTMENT OF AGRICULTURE

Forest Service

Notice of Proposed New Fee Sites; Federal Lands Recreation Enhancement Act (Title VIII, Pub. L. 108-447)

AGENCY: Umatilla National Forest, USDA Forest Service.

ACTION:

Notice of Proposed New Fee Sites.

SUMMARY: The Umatilla National Forest is proposing to charge fees at 39 recreation sites. Fees are assessed based on the leval of amenities and services provided, cost of operation and maintenance, market assessment, and public comment. The fees listed below are only proposed. The final fees will be determined upon further analysis and public comment. Funds from fees would be retained locally and used for the continued operation and maintenance of these recreation sites. The public has been notified of proposed fees in several ways. In July of 2007, signs were posted at all potentially affected campgrounds, rental cabins, and trail heads requesting public feedback on the proposed fees. Press releases regarding the Umatilla National Forest's recreation facility master plan and fee proposals were issued to area newspapers on September 11 of 2007. The release was followed by 7 open houses held in communities across the Forest during September and October. The fee proposal continues to be advertised on the Umatilla National Forest's Web site.

Rental Cabins: Fremont Caretaker's Cabin on the North Fork John Day Ranger District and Tucannon Guard Station on the Pomeroy Ranger District will be available for overnight rental. A financial analysis is being completed to determine the rental fees; the range being considered is from $70 to $100 per night. Cabin rentals offer a unique experience and are a popular offering in National Forests. Both cabins were recently restored to maintain their eligibility to the National Register of Historic Places. Fees would continue to help protect and maintain cabins and their historic integrity.

Campgrounds: The Umatilla National Forest is proposing to begin charging fees at 20 campgrounds. These sites provide similar amenities as sites that currently require fees. They are as follows: Big Creek, Divide Wells, Driftwood, Drift Fence, Gold Dredge, Oriental, and Winom campgrounds in the North Fork John Day Ranger District; Coalmine Hill, Fairview, and Penland campgrounds in the Heppner Ranger District; Alder thicket, Big Springs, Forest boundary, Godman, Ladybug, Midway, Misery Springs, Panjab, Pataha, and Wickiup campgrounds on the Pomeroy Ranger District. A financial analysis is being completed to determine fee rates.The fees proposed to help maintain these sites would range between $5 and $14 for single sites, $10-$16 for double sites, $20-$40 for group sites. There would be an extra $5.00 charge per additional vehicle per campsite at all the listed campgrounds.

Trailheads: The Umatilla National Forest proposes charging fees at the following 17 trailheads: North Fork John Day, Frazier, Winom, and Big Creek trailheads on the North Fork John Day Ranger District; Elk Flats, Meadow Creek, Panjab, Teepee, Three Forks, Timothy Springs, Tucannon, and Twin Buttes on Pomeroy Ranger District; and Burnt Cabin, Deduct Pond, Middle Point, North Fork Umatilla, and Rough Fork on the Walla Walla Ranger District. These sites would be established as fee sites since amenities such as toilets, garbage service, and interpretive signing have been or will be added. Recreation Passes such as the Northwest Forest Pass would cover day use fees for these trailheads. Northwest Forest Passes are $5 for a daily pass and $30 for an annual pass.

DATES: Proposed fees would begin after June 2008 and are contingent upon completion of certain improvements. The cabin rentals would be available once a final decision is made and are offered through the National Recreation Reservation Service.

ADDRESSES: Kevin Martin, Forest Supervisor, Umatilla National Forest, 2517 SW. Hailey Avenue, Pendleton, Oregon 97801.

FOR FURTHER INFORMATION CONTACT: Larry Randall, Umatilla Recreation Fee Coordinator, 509-522-6276. Information about proposed fee changes can also be found on the Umatilla National Forest Web site: http://www.fs.fed.us/r6/uma/recreation/rfa/fee_changes. shtml.

SUPPLEMENTARY INFORMATION: The Federal Recreation Lands Enhancement Act (Title VII, Pub. L. 108-447) directed the Secretary of Agriculture to publish a six month advance notice in the Federal Register whenever new recreation fee areas are established. Once public involvement is complete, these new fees will be reviewed by a Recreation Resource Advisory Committee prior to a final decision and implementation. People wanting to rent Fremont Caretaker's Cabin or Tucannon Guard Station would need to do so through the National Recreation Reservation Service, at http://www.recreation.gov or by calling 1-877-444-6777 when it becomes available.

Dated: January 30, 2008.
Kevin Martin,
Forest Supervisor.

[FR Doc. 08-566 Filed 2-7-08; 8:45 am]

BILLING CODE 3410-11-M